DEPARTMENT OF ENERGY

Federal Energy Regulatory Commission

[Docket No. RP96-331-014]

National Fuel Gas Supply Corporation; Notice of Proposed Changes in FERC Gas Tariff

August 3, 2000.

Take notice that on July 31, 2000 National Fuel Gas Supply Corporation (National Fuel) tendered for filing as part of its FERC Gas Tariff, Fourth Revised Volume No. 1, Third Revised Sheet No. 13, with a proposed effective date of August 1, 2000.

National Fuel states that the filing is made to implement firm storage agreements between National Fuel and Engage Energy US, L.P. National Fuel states that these agreements provide for negotiated rates pursuant to GT&C section 17.2 of National Fuel's tariff and the Commission's policy regarding negotiated rates.

National Fuel states that copies of this filing were served upon its customers and interested state commissions.

Any person desiring to be heard or to protest said filing should file a motion to intervene or a protest with the Federal Energy Regulatory Commission, 888 First Street, NE., Washington DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20071 Filed 8-8-00; 8:45 am]

BILLING CODE 6717-01-M